GENERAL SERVICES ADMINISTRATION

41 CFR Chs. 101, 102, 105, and 302

48 CFR Ch. 5

Unified Agenda of Federal Regulatory and Deregulatory Actions

AGENCY: General Services Administration (GSA).

ACTION: Semiannual regulatory agenda.

SUMMARY: This agenda announces the proposed regulatory actions that GSA plans for the next 12 months and those that were completed since the fall 2019 edition. This agenda was developed under the guidelines of Executive Orders 12866 “Regulatory Planning and Review,” as amended, Executive Order 13771 “Reducing Regulation and Controlling Regulatory Costs,” and Executive Order 13563 “Improving Regulation and Regulatory Review.” GSA's purpose in publishing this agenda is to allow interested persons an opportunity to participate in the rulemaking process. GSA also invites interested persons to recommend existing significant regulations for review to determine whether they should be modified or eliminated. Published proposed rules may be reviewed in their entirety at the Government's rulemaking website at http://www.regulations.gov.

Since the fall 2007 edition, the internet has been the basic means for disseminating the Unified Agenda. The complete Unified Agenda will be available online at www.reginfo.gov, in a format that offers users a greatly enhanced ability to obtain information from the Agenda database.

Because publication in the Federal Register is mandated for the regulatory flexibility agendas required by the Regulatory Flexibility Act (5 U.S.C. 602), GSA's printed agenda entries include only:

(1) Rules that are in the Agency's regulatory flexibility agenda, in accordance with the Regulatory Flexibility Act, because they are likely to have a significant economic impact on a substantial number of small entities; and

(2) Any rules that the Agency has identified for periodic review under section 610 of the Regulatory Flexibility Act.

Printing of these entries is limited to fields that contain information required by the Regulatory Flexibility Act's Agenda requirements. Additional information on these entries is available in the Unified Agenda published on the internet. In addition, for fall editions of the Agenda, the entire Regulatory Plan will continue to be printed in the Federal Register, as in past years, including GSA's regulatory plan.

FOR FURTHER INFORMATION CONTACT: Lois Mandell, Division Director, Regulatory Secretariat Division, 1800 F Street NW, 2nd Floor, Washington, DC 20405-0001, 202-501-2735.

Dated: March 5, 2020.
Jessica Salmoiraghi,
Associate Administrator, Office of Government-wide Policy.

General Services Administration—Prerule Stage
Sequence No. | Title | Regulation Identifier No.
192 | General Services Acquisition Regulation (GSAR); GSAR Case 2020-G502, Increasing Order Level Competition for Federal Supply Schedules | 3090-AK15
193 | General Service Acquisition Regulation (GSAR); GSAR Case 2020-G503, Increasing Order Level Competition for Indefinite-Delivery, Indefinite-Quantity Contracts | 3090-AK16

General Services Administration—Proposed Rule Stage
Sequence No. | Title | Regulation Identifier No.
194 | General Services Acquisition Regulation (GSAR); GSAR Case 2016-G511, Contract Requirements for GSA Information Systems | 3090-AJ84
195 | General Services Acquisition Regulation (GSAR); GSAR Case 2019-G503, Streamlining GSA Commercial Contract Clause Requirements | 3090-AK09
196 | General Service Acquisition Regulation (GSAR); GSAR Case 2020-G504, Federal Supply Schedule Catalog Management | 3090-AK17
197 | General Service Acquisition Regulation (GSAR); GSAR Case 2020-G505, Clarify Commercial Item Contract Terms and Conditions | 3090-AK18
198 | General Service Acquisition Regulation (GSAR); GSAR Case 2020-G509, Extending Federal Supply Schedule Orders Beyond the Contract Term | 3090-AK19
199 | General Service Acquisition Regulation (GSAR); GSAR Case 2020-G510, Federal Supply Schedule Economic Price Adjustment | 3090-AK20
200 | General Service Acquisition Regulation (GSAR); GSAR Case 2020-G511, Updated Guidance for Non-Federal Entities Access to Federal Supply Schedules | 3090-AK21
201 | General Service Acquisition Regulation (GSAR); GSAR Case 2020-G512, System for Award Management Representation for Leases | 3090-AK22
202 | General Service Acquisition Regulation (GSAR); GSAR Case 2020-G513, Lease Payment Procedures | 3090-AK23
203 | General Service Acquisition Regulation (GSAR); GSAR Case 2020-G517, Contracting Exemption for Regulated Utilities | 3090-AK24
204 | General Service Acquisition Regulation (GSAR); GSAR Case 2020-G534, Extension of Prohibition on Certain Telecommunications and Video Surveillance Services or Equipment to Lease Acquisitions | 3090-AK29

General Services Administration—Completed Actions
Sequence No. | Title | Regulation Identifier No.
205 | General Services Administration Acquisition Regulation (GSAR); GSAR Case 2015-G506, Adoption of Construction Project Delivery Method Involving Early Industry Engagement | 3090-AJ64
206 | Federal Permitting Improvement Steering Council (FPISC); FPISC Case 2018-001; Fees for Governance, Oversight, and Processing of Environmental Reviews and Authorizations | 3090-AJ88
207 | Federal Permitting Improvement Steering Council (FPISC); FPISC Case 2019-001, Adding a New Sector of Covered Projects Under FAST-41 by the Federal Permitting Improvement Steering Council | 3090-AK13

GENERAL SERVICES ADMINISTRATION (GSA)

Office of Acquisition Policy

Prerule Stage

192. • General Services Acquisition Regulation (GSAR); GSAR Case 2020-G502, Increasing Order Level Competition for Federal Supply Schedules

E.O. 13771 Designation: Other.

Legal Authority: 40 U.S.C. 121(c)

Abstract: The General Services Administration (GSA) is issuing this Advance Notice of Proposed Rulemaking (ANPRM) to begin the process of amending the General Services Administration Acquisition Regulation (GSAR) to implement section 876 of the National Defense Authorization Act (NDAA) for Fiscal Year 2019 (Pub. L. 115-232) as it relates to Federal Supply Schedule contracts. Section 876 amended 41 U.S.C. 3306(c) by providing an exception to the requirement to consider price as an evaluation factor for the award of certain indefinite-delivery, indefinite-quantity contracts and Federal Supply Schedule contracts. By this ANPRM, GSA invites public comment on the substance of the issues contained. GSA will consider comments received in response to this ANPRM to develop proposed updates in a future rulemaking. A separate case, GSAR Case 2020-G503, will address the implementation of Section 876 in relation to other indefinite-delivery, indefinite-quantity contracts.

Timetable:

Action | Date | FR Cite
ANPRM | 07/00/20 |
ANPRM Comment Period End | 10/00/20 |
NPRM | 12/00/20 |

Regulatory Flexibility Analysis Required: Yes.

Agency Contact: Thomas O'Linn, Procurement Analyst, General Services Administration, 1800 F Street NW, Washington, DC 20405, Phone: 202 445-0390, Email: thomas.olinn@gsa.gov.

RIN: 3090-AK15

193. • General Service Acquisition Regulation (GSAR); GSAR Case 2020-G503, Increasing Order Level Competition for Indefinite-Delivery, Indefinite-Quantity Contracts

E.O. 13771 Designation: Other.

Legal Authority: 40 U.S.C. 121(c)

Abstract: The General Services Administration (GSA) is issuing this Advance Notice of Proposed Rulemaking (ANPRM) to begin the process of amending the General Services Administration Acquisition Regulation (GSAR) to implement section 876 of the National Defense Authorization Act (NDAA) for Fiscal Year 2019 (Pub. L. 115-232) as it relates to certain indefinite-delivery, indefinite-quantity contracts. Section 876 amended 41 U.S.C. 3306(c) by providing an exception to the requirement to consider price as an evaluation factor for the award of certain indefinite-delivery, indefinite-quantity contracts and Federal Supply Schedule contracts. By this ANPRM, GSA invites public comment on the substance of the issues contained. GSA will consider comments received in response to this ANPRM to develop proposed updates in a future rulemaking. A separate case, GSAR Case 2020-G502, will address the implementation of Section 876 in relation to Federal Supply Schedule contracts.

Timetable:

Action | Date | FR Cite
ANPRM | 07/00/20 |
ANPRM Comment Period End | 10/00/20 |
NPRM | 12/00/20 |

Regulatory Flexibility Analysis Required: Yes.

Agency Contact: Thomas O'Linn, Procurement Analyst, General Services Administration, 1800 F Street NW, Washington, DC 20405, Phone: 202 445-0390, Email: thomas.olinn@gsa.gov.

RIN: 3090-AK16

GENERAL SERVICES ADMINISTRATION (GSA)

Office of Acquisition Policy

Proposed Rule Stage

194. General Services Acquisition Regulation (GSAR); GSAR Case 2016-G511, Contract Requirements for GSA Information Systems

E.O. 13771 Designation: Other.

Legal Authority: 40 U.S.C. 121(c)

Abstract: The General Services Administration (GSA) is proposing to amend the General Services Administration Acquisition Regulation (GSAR) to streamline and update requirements for contracts that involve GSA information systems. GSA's unique policies on cybersecurity and other information technology requirements have been previously communicated through other means. By incorporating these requirements into the GSAR, the GSAR will provide centralized guidance to ensure consistent application across the organization. Integrating these requirements into the GSAR will also allow industry to provide public comments through the rulemaking process.

This rule will require contracting officers to incorporate applicable GSA cybersecurity requirements within the statement of work to ensure compliance with Federal cybersecurity requirements and implement best practices for preventing cyber incidents. Contract requirements for internal information systems, external contractor systems, cloud systems, and mobile systems will be covered by this rule. This rule will also update existing GSAR provision 552.239-70, Information Technology Security Plan and Security Authorization, and GSAR clause 552.239-71, Security Requirements for Unclassified Information Technology Resources, to only require the provision and clause when the contract will involve information or information systems connected to a GSA network.

Timetable:

Action | Date | FR Cite
NPRM | 07/00/20 |
NPRM Comment Period End | 09/00/20 |

Regulatory Flexibility Analysis Required: Yes.

Agency Contact: Johnnie McDowell, Procurement Analyst, General Services Administration, 1800 F Street NW, Washington, DC 20405, Phone: 202 718-6112, Email: johnnie.mcdowell@gsa.gov.

RIN: 3090-AJ84

195. General Services Acquisition Regulation (GSAR); GSAR Case 2019-G503, Streamlining GSA Commercial Contract Clause Requirements

E.O. 13771 Designation: Other.

Legal Authority: 40 U.S.C. 121(c)

Abstract: The General Services Administration (GSA) is proposing to amend the General Services Administration Acquisition Regulation (GSAR) to streamline requirements for GSA commercial contracts. This rule will update GSAR Clauses 552.212-71 and 552.212-72 to remove any requirements that are not necessary by law or Executive Order.

Timetable:

Action | Date | FR Cite
NPRM | 07/00/20 |
NPRM Comment Period End | 09/00/20 |

Regulatory Flexibility Analysis Required: Yes.

Agency Contact: Johnnie McDowell, Procurement Analyst, General Services Administration, 1800 F Street NW, Washington, DC 20405, Phone: 202 718-6112, Email: johnnie.mcdowell@gsa.gov.

RIN: 3090-AK09

196. • General Service Acquisition Regulation (GSAR); GSAR Case 2020-G504, Federal Supply Schedule Catalog Management

E.O. 13771 Designation: Other.

Legal Authority: 40 U.S.C. 121(c)

Abstract: The General Services Administration (GSA) is proposing to amend the General Services Administration Acquisition Regulation (GSAR) to consolidate all terms related to Federal Supply Schedule catalog management, which are currently spread across multiple clauses, into one consolidated clause.

Timetable:

Action | Date | FR Cite
NPRM | 01/00/21 |
NPRM Comment Period End | 03/00/21 |

Regulatory Flexibility Analysis Required: Yes.

Agency Contact: Dana L. Bowman, Procurement Analyst, General Services Administration, 1800 F Street NW, Washington, DC 20405, Phone: 202 357-9652, Email: dana.bowman@gsa.gov.

RIN: 3090-AK17

197. • General Service Acquisition Regulation (GSAR); GSAR Case 2020-G505, Clarify Commercial Item Contract Terms and Conditions

E.O. 13771 Designation: Other.

Legal Authority: 40 U.S.C. 121(c)

Abstract: The General Services Administration (GSA) is proposing to amend the General Services Administration Acquisition Regulation (GSAR) to clarify commercial item contract terms and conditions. This rule will update GSAR Clause 552.212-4 to clarify the prescription and language applicable for the different clause alternates.

Timetable:

Action | Date | FR Cite
NPRM | 01/00/21 |
NPRM Comment Period End | 03/00/21 |

Regulatory Flexibility Analysis Required: Yes.

Agency Contact: Johnnie McDowell, Procurement Analyst, General Services Administration, 1800 F Street NW, Washington, DC 20405, Phone: 202 718-6112, Email: johnnie.mcdowell@gsa.gov.

RIN: 3090-AK18

198. • General Service Acquisition Regulation (GSAR); GSAR Case 2020-G509, Extending Federal Supply Schedule Orders Beyond the Contract Term

E.O. 13771 Designation: Other.

Legal Authority: 40 U.S.C. 121(c)

Abstract: The General Services Administration (GSA) is proposing to amend the General Services Administration Acquisition Regulation (GSAR) to clarify, update, and incorporate existing Federal Supply Schedule (FSS) program policies and procedures regarding performance of orders beyond the term of the base FSS contract. Specifically, the local FSS program policy titled I-FSS-163 Option to Extend the Term of the Contract (Evergreen) will be incorporated.

Timetable:

Action | Date | FR Cite
NPRM | 02/00/21 |
NPRM Comment Period End | 04/00/21 |

Regulatory Flexibility Analysis Required: Yes.

Agency Contact: Thomas O'Linn, Procurement Analyst, General Services Administration, 1800 F Street NW, Washington, DC 20405, Phone: 202 445-0390, Email: thomas.olinn@gsa.gov.

RIN: 3090-AK19

199. • General Service Acquisition Regulation (GSAR); GSAR Case 2020-G510, Federal Supply Schedule Economic Price Adjustment

E.O. 13771 Designation: Other.

Legal Authority: 40 U.S.C. 121(c)

Abstract: The General Services Administration (GSA) is proposing to amend the General Services Administration Acquisition Regulation (GSAR) to clarify, update, and incorporate Federal Supply Schedule (FSS) program policies and procedures regarding economic price adjustment. This rule will update GSAR Clause 552.216-70 to incorporate the clause alternates in GSA's existing class deviation CD-2019-14.

Timetable:

Action | Date | FR Cite
NPRM | 11/00/20 |
NPRM Comment Period End | 01/00/21 |

Regulatory Flexibility Analysis Required: Yes.

Agency Contact: Thomas O'Linn, Procurement Analyst, General Services Administration, 1800 F Street NW, Washington, DC 20405, Phone: 202 445-0390, Email: thomas.olinn@gsa.gov.

RIN: 3090-AK20

200. • General Service Acquisition Regulation (GSAR); GSAR Case 2020-G511, Updated Guidance for Non-Federal Entities Access to Federal Supply Schedules

E.O. 13771 Designation: Other.

Legal Authority: 40 U.S.C. 121(c); 40 U.S.C. 502

Abstract: The General Services Administration (GSA) is proposing to amend the General Services Administration Acquisition Regulation (GSAR) to streamline and clarify the requirements for use of Federal Supply Schedules by eligible Non-Federal Entities, such as state and local governments. Eligible Non-Federal Entities are able to use Federal Supply Schedules based on authority from various laws, including 40 U.S.C. 502(c).

Timetable:

Action | Date | FR Cite
NPRM | 11/00/20 |
NPRM Comment Period End | 01/00/21 |

Regulatory Flexibility Analysis Required: Yes.

Agency Contact: Thomas O'Linn, Procurement Analyst, General Services Administration, 1800 F Street NW, Washington, DC 20405, Phone: 202 445-0390, Email: thomas.olinn@gsa.gov.

RIN: 3090-AK21

201. • General Service Acquisition Regulation (GSAR); GSAR Case 2020-G512, System for Award Management Representation for Leases

E.O. 13771 Designation: Other.

Legal Authority: 40 U.S.C. 121(c)

Abstract: The General Services Administration (GSA) is proposing to amend the General Services Administration Acquisition Regulation (GSAR) to remove the requirement for lease offerors to have an active System for Award Management (SAM) registration when submitting offers and instead allow offers up until the time of award to obtain an active SAM registration. Entities seeking Federal leases differ from the typical entities seeking Federal contracts in that common practice is to form a new entity for every new lease offer. Requiring representations from these entities prior to offer submission restricts competition. In addition, the tools in SAM typically used in the Government's evaluation of offers do not add value when evaluating lease offers.

Timetable:

Action | Date | FR Cite
NPRM | 02/00/21 |
NPRM Comment Period End | 04/00/21 |

Regulatory Flexibility Analysis Required: Yes.

Agency Contact: Marten Wallace, Procurement Analyst, General Services Administration, 1800 F Street NW, Washington, DC 20405, Phone: 202 969-7736, Email: marten.wallace@gsa.gov.

RIN: 3090-AK22

202. • General Service Acquisition Regulation (GSAR); GSAR Case 2020-G513, Lease Payment Procedures

E.O. 13771 Designation: Other.

Legal Authority: 40 U.S.C. 121(c)

Abstract: The General Services Administration (GSA) is proposing to amend the General Services Administration Acquisition Regulation (GSAR) to establish a new clause to allow for a pass-through of taxes under payments for lease construction. The real estate tax base for a newly built or renovated building is uncertain until a tax assessment is completed, which can be a year or more after occupancy in some jurisdictions. Removing the tax base from the shell rent of a lease and providing a pass-through of the real estate taxes in lieu of a real estate tax adjustment over a base during the term of the lease will remove an element of risk from the pricing of rent, will result in greater competition, and will lower rental rates.

Timetable:

Action | Date | FR Cite
NPRM | 01/00/21 |
NPRM Comment Period End | 03/00/21 |

Regulatory Flexibility Analysis Required: Yes.

Agency Contact: Marten Wallace, Procurement Analyst, General Services Administration, 1800 F Street NW, Washington, DC 20405, Phone: 202 969-7736, Email: marten.wallace@gsa.gov.

RIN: 3090-AK23

203. • General Service Acquisition Regulation (GSAR); GSAR Case 2020-G517, Contracting Exemption for Regulated Utilities

E.O. 13771 Designation: Other.

Legal Authority: 40 U.S.C. 121(c)

Abstract: The General Services Administration (GSA) is proposing to amend the General Services Administration Acquisition Regulation (GSAR) to remove the requirement to establish a contract for services provided by regulated public utilities. This rule provides a deviation to Federal Acquisition Regulation (FAR) 41.201 to remove the unnecessary and burdensome requirements to seek bilateral written contracts for services provided by public utilities and to implement new, more efficient procedures in the GSAR to streamline the process. This deviation only applies to the acquisition of services from regulated public utilities. Based on review of 31 U.S.C. 1501(a)(8) and opinions from the Government Accountability Office (GAO), the procedures set forth at FAR 41.2 are not necessary in order to comply with applicable fiscal law regarding the recording of obligations.

Timetable:

Action | Date | FR Cite
NPRM | 02/00/21 |
NPRM Comment Period End | 04/00/21 |

Regulatory Flexibility Analysis Required: Yes.

Agency Contact: Vernita Misidor, Procurement Analyst, General Services Administration, 1800 F Street NW, Washington, DC 20405, Phone: 202 357-9681, Email: vernita.misidor@gsa.gov.

RIN: 3090-AK24

204. • General Service Acquisition Regulation (GSAR); GSAR Case 2020-G534, Extension of Prohibition on Certain Telecommunications and Video Surveillance Services or Equipment to Lease Acquisitions

E.O. 13771 Designation: Regulatory.

Legal Authority: 40 U.S.C. 121(c)

Abstract: The General Services Administration (GSA) is amending the General Services Administration Acquisition Regulation (GSAR) to extend the requirements of section 889 of the National Defense Authorization Act (NDAA) for FY 19 (Pub. L. 115-232) to lease acquisitions by requiring inclusion of the related Federal Acquisition Regulation (FAR) provisions and clause. Generally, the FAR does not apply to leasehold acquisitions of real property. However, several FAR provisions have been adopted based on statutory requirements through GSAR part 570. Section 889 of the NDAA for FY 19 applies to Government lease acquisitions and extension of the FAR requirements will ensure compliance.

Timetable:

Action | Date | FR Cite
NPRM | 02/00/21 |
NPRM Comment Period End | 04/00/21 |

Regulatory Flexibility Analysis Required: Yes.

Agency Contact: Michael Thompson, Procurement Analyst, General Services Administration, 1800 F Street NW, Washington, DC 20405, Phone: 202 208-1568, Email: michael.thompson@gsa.gov.

RIN: 3090-AK29

GENERAL SERVICES ADMINISTRATION (GSA)

Completed Actions

205. General Services Administration Acquisition Regulation (GSAR); GSAR Case 2015-G506, Adoption of Construction Project Delivery Method Involving Early Industry Engagement

E.O. 13771 Designation: Deregulatory.

Legal Authority: 40 U.S.C. 121(c)

Abstract: The General Services Administration (GSA) is amending the General Services Administration Acquisition Regulation (GSAR) to adopt an additional project delivery method for construction, construction manager as constructor (CMc). The current FAR and GSAR lacks detailed coverage differentiating various construction project delivery methods. GSA's policies on CMc have been previously issued through other means. By incorporating CMc into the GSAR and differentiating for various construction methods, the GSAR provides centralized guidance to ensure consistent application of construction project principles across the organization.

Completed:

Reason | Date | FR Cite
Final Rule | 12/19/19 | 84 FR 69627
Final Rule Effective | 01/21/20 |

Regulatory Flexibility Analysis Required: Yes.

Agency Contact: Christina Mullins, Phone: 202 969-4066, Email: christina.mullins@gsa.gov.

RIN: 3090-AJ64

206. Federal Permitting Improvement Steering Council (FPISC); FPISC Case 2018-001; Fees for Governance, Oversight, and Processing of Environmental Reviews and Authorizations

Timetable:

Action | Date | FR Cite
Transferred to RIN 3121-AA00 | 03/05/20 |

RIN: 3090-AJ88

207. Federal Permitting Improvement Steering Council (FPISC); FPISC Case 2019-001, Adding a New Sector of Covered Projects Under FAST-41 by the Federal Permitting Improvement Steering Council

Timetable:

Action | Date | FR Cite
Transferred to RIN 3121-AA01 | 03/05/20 |

RIN: 3090-AK13

[FR Doc. 2020-16764 Filed 8-25-20; 8:45 am]

BILLING CODE 6820-34-P